DEPARTMENT OF ENERGY

Federal Energy Regulatory Commission

Combined Notice of Filings #1

June 3, 2008.

Take notice that the Commission has received the following Natural Gas Pipeline Rate and Refund Report filings:

Docket Numbers: RP91-203-075, RP92-132-063.

Applicants: Tennessee Gas Pipeline Company.

Description: Tennessee Gas Pipeline Co submits its Thirty-Sixth Revised Sheet 20 et al to FERC Gas Tariff, Fifth Revised Volume 1 et al, to become effective 7/1/08.

Filed Date: 05/30/2008.

Accession Number: 20080602-0176.

Comment Date: 5 p.m. Eastern Time on Wednesday, June 11, 2008.

Docket Numbers: RP96-272-076.

Applicants: Northern Natural Gas Company.

Description: Northern Natural Gas Co submits its 20 Revised Sheet 66B et al to FERC Gas Tariff, Fifth Revised Volume 1 under RP96-272.

Filed Date: 05/30/2008.

Accession Number: 20080602-0179.

Comment Date: 5 p.m. Eastern Time on Wednesday, June 11, 2008.

Docket Numbers: RP96-320-091.

Applicants: Gulf South Pipeline Company, LP.

Description: Gulf South Pipeline Company submits a capacity release agreement containing negotiated rate provisions executed by Gulf and the following replacements shippers.

Filed Date: 05/30/2008.

Accession Number: 20080602-0113.

Comment Date: 5 p.m. Eastern Time on Wednesday, June 11, 2008.

Docket Numbers: RP96-383-086.

Applicants: Dominion Transmission, Inc.

Description: Dominion Transmission, Inc submits Eleventh Revised Sheet 1405, which adds a new negotiated rate transaction.

Filed Date: 05/30/2008.

Accession Number: 20080602-0180.

Comment Date: 5 p.m. Eastern Time on Wednesday, June 11, 2008.

Docket Numbers: RP00-157-018.

Applicants: Kern River Gas Transmission Company.

Description: Kern River Gas Transmission Co submits Twelfth Revised Sheet 495 et al to FERC Gas Tariff, Second Revised Volume 1 under RP00-157.

Filed Date: 05/30/2008.

Accession Number: 20080602-0181.

Comment Date: 5 p.m. Eastern Time on Wednesday, June 11, 2008.

Docket Numbers: RP05-267-002, RP97-406-035, RP00-15-007, RP00-344-006, RP00-632-028.

Applicants: Dominion Transmission, Inc.

Description: Dominion Transmission, Inc submits Seventh Revised Sheet 36 its FERC Gas Tariff, Third Revised Volume 1 to become effective July 1, 2008.

Filed Date: 05/29/2008.

Accession Number: 20080530-0319.

Comment Date: 5 p.m. Eastern Time on Tuesday, June 10, 2008.

Docket Numbers: RP08-305-001.

Applicants: Columbia Gulf Transmission Company.

Description: Columbia Gulf Transmission Company submits Second Revised Sheet 241 to FERC Gas Tariff, Second Revised Volume 1, to become effective 5/2/08.

Filed Date: 05/30/2008.

Accession Number: 20080602-0114.

Comment Date: 5 p.m. Eastern Time on Wednesday, June 11, 2008.

Docket Numbers: RP08-392-000.

Applicants: Texas Gas Transmission, LLC.

Description: Texas Gas Transmission LLC submits a modified Redlined Version of Third Revised Volume 1.

Filed Date: 05/30/2008.

Accession Number: 20080602-0119.

Comment Date: 5 p.m. Eastern Time on Wednesday, June 11, 2008.

Docket Numbers: RP08-393-000.

Applicants: National Fuel Gas Supply Corporation.

Description: National Fuel Gas Supply Corp submits their 115th Revised Sheet 9 to its FERC Gas Tariff, Fourth Revised Volume 1.

Filed Date: 05/30/2008.

Accession Number: 20080602-0178.

Comment Date: 5 p.m. Eastern Time on Wednesday, June 11, 2008.

Docket Numbers: RP08-394-000.

Applicants: Colorado Interstate Gas Company.

Description: Colorado Interstate Gas Co submits workpapers to validate the continued use of the existing reimbursement percentage for Lost, Unaccounted-For and Other Fuel Gas.

Filed Date: 05/30/2008.

Accession Number: 20080602-0177.

Comment Date: 5 p.m. Eastern Time on Wednesday, June 11, 2008.

Docket Numbers: RP08-395-000.

Applicants: Discovery Gas Transmission LLC.

Description: Discovery Gas Transmission, LLC submits Ninth Revised Sheet 33 et al to FERC Gas Tariff, Original Volume 1, to become effective 7/1/08.

Filed Date: 05/30/2008.

Accession Number: 20080602-0175.

Comment Date: 5 p.m. Eastern Time on Wednesday, June 11, 2008.

Docket Numbers: RP08-396-000.

Applicants: Questar Southern Trails Pipeline Company.

Description: Questar Southern Trails Pipeline Company's Annual Fuel Gas Reimbursement Report for the twelve months ended 3/31/07, pursuant to FERC Gas Tariff, Original Volume 1.

Filed Date: 06/02/2008.

Accession Number: 20080602-0094.

Comment Date: 5 p.m. Eastern Time on Monday, June 16, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-12929 Filed 6-9-08; 8:45 am]

BILLING CODE 6717-01-P